POSTAL REGULATORY COMMISSION

[Docket No. ACR2008]

Postal Service Oversight

AGENCY: Postal Regulatory Commission.

ACTION: Availability of report.

FOR FURTHER INFORMATION CONTACT: Stephen L. Sharman, General Counsel, at 202-789-6820 or stephen.sharfman@prc.gov.

SUPPLEMENTARY INFORMATION: The Postal Regulatory Commission (Commission) has issued its Annual Compliance Determination addressing the United States Postal Service's financial and service performance in fiscal year 2008. The Commission's determination, dated March 30, 2009, responds to a directive in the Postal Accountability and Enhancement Act (PAEA) of 2006. See 39 U.S.C 3653. It was prepared after review of the Postal Service's 2008 Annual Compliance Report, public comments, and supplemental data and information provided in response to Commission requests.

The Commission's report, as well as related documents, can be accessed on the Commission's Web site, http://www.prc.gov.

Dated: March 31, 2009.
Steven W. Williams,
Secretary.

[FR Doc. E9-7529 Filed 4-2-09; 8:45 am]

BILLING CODE 7710-FW-P